DEPARTMENT OF THE INTERIOR

Fish and Wildlife Service

[FWS-R9-IA-2012-N035; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before March 12, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Thomas Moore, Kerrville, TX; PRT-690098

The applicant requests amendment and renewal of his captive-bred wildlife registration under 50 CFR 17.21(g) to include the barasingha (Rucervus duvaucelii), scimitar-horned oryx (Oryx dammah), addax (Addax nasomaculatus), and dama gazelle (Nanger dama) to enhance their propagation or survival. This notification covers activities to be conducted by the applicant over a 5-year period.

Applicant: Kyle Wildlife Limited Partnership, Bandera, TX; PRT-731315

The applicant requests amendment of their captive-bred wildlife registration under 50 CFR 17.21(g) to add scimitar-horned oryx (Oryx dammah), addax (Addax nasomaculatus), and dama gazelle (Nanger dama) to enhance their propagation or survival. This notification covers activities to be conducted by the applicant over a 5-year period.

Applicant: Kyle Wildlife Limited Partnership, Bandera, TX; PRT-828861

The applicant requests amendment of their permit authorizing interstate and foreign commerce, export and cull to include scimitar-horned oryx (Oryx dammah), addax (Addax nasomaculatus), and dama gazelle (Nanger dama) from the captive herds maintained at their facility for the purpose of enhancement of the survival of the species. This notification covers activities to be conducted by the applicant over a 5-year period.

Applicant: Hatada Enterprises, Inc., Valley Mills, TX; PRT-60391A

The applicant requests a permit authorizing interstate and foreign commerce, export, and cull of excess scimitar-horned oryx (Oryx dammah), Addax (Addax nasomaculatus), and dama gazelle (Nanger dama) from the captive herds maintained at their facility for the purpose of enhancement of the survival of the species. This notification covers activities conducted by the applicant over a 5-year period.

Applicant: Cedar Hill Birds, Acampo, CA; PRT-63868A

The applicant requests a captive-bred wildlife registration under 50 CFR 17.21(g) for the blue-throated parakeet (Pyrrhura cruentata), to enhance their propagation or survival. This notification covers activities to be conducted by the applicant over a 5-year period.

Applicant: Bar H Bar Land & Cattle Company, Houston, TX; PRT-63871A

The applicant requests a captive-bred wildlife registration under 50 CFR 17.21(g) for the scimitar-horned oryx (Oryx dammah), to enhance their propagation or survival. This notification covers activities to be conducted by the applicant over a 5-year period.

Applicant: Bar H Bar Land & Cattle Company, Houston, TX; PRT-63872A

The applicant requests a permit authorizing interstate and foreign commerce, export, and cull of excess scimitar-horned oryx (Oryx dammah), from the captive herd maintained at their facility for the purpose of enhancement of the survival of the species. This notification covers activities conducted by the applicant over a 5-year period.

Applicant: NH&S Holdings, LLC, Valley Mills, TX; PRT-64164A

The applicant requests a captive-bred wildlife registration under 50 CFR 17.21(g) for the scimitar-horned oryx (Oryx dammah), to enhance their propagation or survival. This notification covers activities to be conducted by the applicant over a 5-year period.

Applicant: NH&S Holdings, LLC, Valley Mills, TX; PRT-64164A

The applicant requests a permit authorizing interstate and foreign commerce, export, and cull of excess scimitar-horned oryx (Oryx dammah), from the captive herd maintained at their facility for the purpose of enhancement of the survival of the species. This notification covers activities conducted by the applicant over a 5-year period.

Applicant: Indianhead Ranch, Inc., Del Rio, TX; PRT-64482A

The applicant requests a captive-bred wildlife registration under 50 CFR 17.21(g) for the scimitar-horned oryx (Oryx dammah), Addax (Addax nasomaculatus), and dama gazelle (Nanger dama), to enhance their propagation or survival. This notification covers activities to be conducted by the applicant over a 5-year period.

Applicant: Indianhead Ranch, Inc., Del Rio, TX; PRT-64481A

The applicant requests a permit authorizing interstate and foreign commerce, export, and cull of excess scimitar-horned oryx (Oryx dammah) and Addax (Addax nasomaculatus) from the captive herds maintained at their facility for the purpose of enhancement of the survival of the species. This notification covers activities conducted by the applicant over a 5-year period.

Applicant: Recordbuck Ranch, Utopia, TX; PRT-64161A

The applicant requests a captive-bred wildlife registration under 50 CFR 17.21(g) for the barasingha (Rucervus duvaucelii), scimitar-horned oryx (Oryx dammah), Addax (Addax nasomaculatus), and dama gazelle (Nanger dama), to enhance their propagation or survival. This notification covers activities to be conducted by the applicant over a 5-year period.

Applicant: Recordbuck Ranch, Utopia, TX; PRT-64161A

The applicant requests a permit authorizing interstate and foreign commerce, export, and cull of excess barasingha (Rucervus duvaucelii), scimitar-horned oryx (Oryx dammah), Addax (Addax nasomaculatus), and dama gazelle (Nanger dama), from the captive herds maintained at their facility for the purpose of enhancement of the survival of the species. This notification covers activities conducted by the applicant over a 5-year period.

Applicant: H&L Sales, Hunt, TX; PRT-667872

The applicant requests amendment of their captive-bred wildlife registration under 50 CFR 17.21(g) to add addax (Addax nasomaculatus) to enhance their propagation or survival. This notification covers activities to be conducted by the applicant over a 5-year period.

Applicant: H&L Sales, Hunt, TX; PRT-704025

The applicant requests amendment of their permit authorizing interstate and foreign commerce, export and cull to include addax (Addax nasomaculatus) from the captive herd maintained at their facility for the purpose of enhancement of the survival of the species. This notification covers activities to be conducted by the applicant over a 5-year period.

Applicant: Leslie Barnhart, Westhoff, TX; PRT-128054

The applicant requests amendment and renewal of his captive-bred wildlife registration under 50 CFR 17.21(g) to include the barasingha (Rucervus duvaucelii), scimitar-horned oryx (Oryx dammah) and addax (Addax nasomaculatus), to enhance their propagation or survival. This notification covers activities to be conducted by the applicant over a 5-year period.

Applicant: Leslie Barnhart, Westhoff, TX; PRT-128056

The applicant requests renewal and amendment of their permit authorizing interstate and foreign commerce, export and cull to include barasingha (Rucervus duvaucelii) and addax (Addax nasomaculatus) from the captive herds maintained at their facility for the purpose of enhancement of the survival of the species. This notification covers activities to be conducted by the applicant over a 5-year period.

Applicant: John Ball Zoological Garden, Grand Rapids, MI; PRT-680321

The applicant requests renewal of their captive-bred wildlife registration under 50 CFR 17.21(g) for the following families, genus, and species, to enhance their propagation or survival. This notification covers activities to be conducted by the applicant over a 5-year period.

Families:

Callitricidae

Felidae (does not include jaguar, margay, or ocelot)

Canidae

Lemuridae

Applicant: Phoenix Zoo, Phoenix, AZ; PRT-678366

The applicant requests renewal of their captive-bred wildlife registration under 50 CFR 17.21(g) for the following families, genus, and species, to enhance their propagation or survival. This notification covers activities to be conducted by the applicant over a 5-year period.

Families:

Bovidae

Callitricidae

Canidae

Cebidae

Cercopithecidae

Cervidae

Equidae

Felidae (does not include jaguar, margay, or ocelot)

Hominidae

Hylobatidae

Lemuridae

Macropodidae

Tapiridae

Cathartidae

Columbidae

Ploceidae

Psittacidae (does not include thick-billed parrots)

Rallidae

Rheidae

Strigidae

Struthionidae

Sturnidae (does not include Aplonis pelzelni)

Tinamidae

Alligatoridae

Crocodylidae (does not include American crocodile)

Pelomedusidae

Testudinidae

Species

Asian elephant (Elephas maximus)

Applicant: Zoo Boise, Boise, ID; PRT-781629

The applicant requests amendment of their captive-bred wildlife registration under 50 CFR 17.21(g) to add maned wolf (Chrysocyon brachyurus) and parma wallaby (Macropus parma) to enhance their propagation or survival. This notification covers activities to be conducted by the applicant over a 5-year period.

Applicant: Bamberger Ranch Preserve, Johnson City, TX; PRT-64742A

The applicant requests a captive-bred wildlife registration under 50 CFR 17.21(g) for the scimitar-horned oryx (Oryx dammah), to enhance their propagation or survival. This notification covers activities to be conducted by the applicant over a 5-year period.

Applicant: Diamond J Game Ranch, Eden, TX; PRT-64775A

The applicant requests a captive-bred wildlife registration under 50 CFR 17.21(g) for the barasingha (Rucervus duvaucelii) and scimitar-horned oryx (Oryx dammah) to enhance their propagation or survival. This notification covers activities to be conducted by the applicant over a 5-year period.

Applicant: Diamond J Game Ranch, Eden, TX; PRT-64776A

The applicant requests a permit authorizing interstate and foreign commerce, export, and cull of excess barasingha (Rucervus duvaucelii) and scimitar-horned oryx (Oryx dammah), from the captive herds maintained at their facility for the purpose of enhancement of the survival of the species. This notification covers activities conducted by the applicant over a 5-year period.

Applicant: Kent Creek Ranch, Inc., Leakey, TX; PRT-64653A

The applicant requests a captive-bred wildlife registration under 50 CFR 17.21(g) for the addax (Addax nasomaculatus), to enhance their propagation or survival. This notification covers activities to be conducted by the applicant over a 5-year period.

Applicant: Kent Creek Ranch, Inc., Leakey, TX; PRT-64652A

The applicant requests a permit authorizing interstate and foreign commerce, export, and cull of excess Addax (Addax nasomaculatus), from the captive herd maintained at their facility for the purpose of enhancement of the survival of the species. This notification covers activities to be conducted by the applicant over a 5-year period.

Applicant: Palfam Ranch Management LLC, Giddings, TX; PRT-64737A

The applicant requests a captive-bred wildlife registration under 50 CFR 17.21(g) for the barasingha (Rucervus duvaucelii), scimitar-horned oryx (Oryx dammah), and Addax (Addax nasomaculatus), to enhance their propagation or survival. This notification covers activities to be conducted by the applicant over a 5-year period.

Applicant: Palfam Ranch Management LLC, Giddings, TX; PRT-64737A

The applicant requests a permit authorizing interstate and foreign commerce, export, and cull of excess barasingha (Rucervus duvaucelii), scimitar-horned oryx (Oryx dammah), and Addax (Addax nasomaculatus), from the captive herds maintained at their facility for the purpose of enhancement of the survival of the species. This notification covers activities conducted by the applicant over a 5-year period.

Applicant: Mathias Family Investments LLC, Hext, TX; PRT-64743A

The applicant requests a captive-bred wildlife registration under 50 CFR 17.21(g) for the addax (Addax nasomaculatus), to enhance their propagation or survival. This notification covers activities to be conducted by the applicant over a 5-year period.

Applicant: Mathias Family Investments LLC, Hext, TX; PRT-64744A

The applicant requests a permit authorizing interstate and foreign commerce, export, and cull of excess Addax (Addax nasomaculatus), from the captive herd maintained at their facility for the purpose of enhancement of the survival of the species. This notification covers activities conducted by the applicant over a 5-year period.

Applicant: Larry Friesenhahn, Mico, TX; PRT-64724A

The applicant requests a captive-bred wildlife registration under 50 CFR 17.21(g) for the scimitar-horned oryx (Oryx dammah), to enhance their propagation or survival. This notification covers activities to be conducted by the applicant over a 5-year period.

Applicant: Larry Friesenhahn, Mico, TX; PRT-64723A

The applicant requests a permit authorizing interstate and foreign commerce, export, and cull of excess scimitar-horned oryx (Oryx dammah), from the captive herd maintained at their facility for the purpose of enhancement of the survival of the species. This notification covers activities conducted by the applicant over a 5-year period.

Applicant: Double Springs Partnership, Ltd., Walnut Springs, TX; PRT-64654A

The applicant requests a captive-bred wildlife registration under 50 CFR 17.21(g) for the scimitar-horned oryx (Oryx dammah), to enhance their propagation or survival. This notification covers activities to be conducted by the applicant over a 5-year period.

Applicant: Double Springs Partnership, Ltd., Walnut Springs, TX; PRT-64656A

The applicant requests a permit authorizing interstate and foreign commerce, export, and cull of excess scimitar-horned oryx (Oryx dammah), from the captive herd maintained at their facility for the purpose of enhancement of the survival of the species. This notification covers activities conducted by the applicant over a 5-year period.

Applicant: Jetton Ranch, Junction, TX; PRT-64740A

The applicant requests a captive-bred wildlife registration under 50 CFR 17.21(g) for the scimitar-horned oryx (Oryx dammah), and Addax (Addax nasomaculatus), to enhance their propagation or survival. This notification covers activities to be conducted by the applicant over a 5-year period.

Applicant: Jetton Ranch, Junction, TX; PRT-64741A

The applicant requests a permit authorizing interstate and foreign commerce, export, and cull of excess scimitar-horned oryx (Oryx dammah) and Addax (Addax nasomaculatus) from the captive herds maintained at their facility for the purpose of enhancement of the survival of the species. This notification covers activities conducted by the applicant over a 5-year period.

Applicant: Ricardo Longoria, Natalia, TX; PRT-192404

The applicant requests amendment of their captive-bred wildlife registration under 50 CFR 17.21(g) to add addax (Addax nasomaculatus), and dama gazelle (Nanger dama) to enhance their propagation or survival. This notification covers activities to be conducted by the applicant over a 5-year period.

Applicant: Ricardo Longoria, Natalia, TX; PRT-192403

The applicant requests amendment of their permit authorizing interstate and foreign commerce, export and cull to include addax (Addax nasomaculatus), and dama gazelle (Nanger dama) from the captive herds maintained at their facility for the purpose of enhancement of the survival of the species. This notification covers activities to be conducted by the applicant over a 5-year period.

Applicant: National Museum of Natural History, Washington, DC; PRT-125284

The applicant requests a permit to export and re-import nonliving museum specimens of endangered and threatened species previously accessioned into the applicant's collection for scientific research. This notification covers activities to be conducted by the applicant over a 5-year period.

Applicant: Robin Thigpen, Jacksonville, FL; PRT-65030A

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2012-3045 Filed 2-8-12; 8:45 am]

BILLING CODE 4310-55-P